DEPARTMENT OF TRANSPORTATION

Federal Aviation Administration

14 CFR Part 39

[Docket No. 2002-CE-45-AD; Amendment 39-13218; AD 2003-13-16]

RIN 2120-AA64

Airworthiness Directives; Raytheon Aircraft Company 90, 100, and 200 Series Airplanes

AGENCY: Federal Aviation Administration, DOT.

ACTION: Final rule.

SUMMARY: This amendment adopts a new airworthiness directive (AD) that applies to certain Raytheon Aircraft Company (Raytheon) 90, 100, and 200 series airplanes. This AD requires you to inspect the forward side of the aft pressure bulkhead for scoring damage and repair, if necessary. This AD is the result of reports of the aft pressure bulkhead being damaged by scoring during manufacture. The actions specified by this AD are intended to detect and correct damage to the aft pressure bulkhead of the fuselage. Such damage could lead to fatigue failure of the bulkhead.

DATES: This AD becomes effective on August 25, 2003.

The Director of the Federal Register approved the incorporation by reference of certain publications listed in the regulations as of August 25, 2003.

ADDRESSES: You may get the service information referenced in this AD from Raytheon Aircraft Company, 9709 E. Central, Wichita, Kansas 67201-0085; telephone: (800) 429-5372 or (316) 676-3140. You may view this information at the Federal Aviation Administration (FAA), Central Region, Office of the Regional Counsel, Attention: Rules Docket No. 2002-CE-45-AD, 901 Locust, Room 506, Kansas City, Missouri 64106; or at the Office of the Federal Register, 800 North Capitol Street, NW., suite 700, Washington, DC.

FOR FURTHER INFORMATION CONTACT: Mr. Steven E. Potter, Aerospace Engineer, Wichita Aircraft Certification Office, FAA, 1801 Airport Road, Wichita, Kansas 67209; telephone: (316) 946-4124; facsimile: (316) 946-4107.

SUPPLEMENTARY INFORMATION:

Discussion

What Events Have Caused This AD?

The FAA has received reports that during manufacturing, nine aft pressure bulkheads of Raytheon 90, 100, and 200 series airplanes may have been damaged by scribing or knife marks (scoring).

What Is the Potential Impact if FAA Took No Action?

The damage to the aft pressure bulkhead may cause fatigue failure of the bulkhead.

Has FAA Taken Any Action to This Point?

We issued a proposal to amend part 39 of the Federal Aviation Regulations (14 CFR part 39) to include an AD that would apply to certain Raytheon 90, 100, and 200 series airplanes. This proposal was published in the Federal Register as a notice of proposed rulemaking (NPRM) on February 14, 2003 (68 FR 7449). The NPRM proposed to require you to inspect the forward side of the aft pressure bulkhead for scoring damage and repair, if damage is found.

Was the Public Invited to Comment?

The FAA encouraged interested persons to participate in the making of this amendment. The following presents the comment received on the proposal and FAA's response to the comment:

Comment Issue:

AD Applicability to Model B200 Range of Serial Numbers.

What Is the Commenter's Concern?

The commenter states that there is a typographical error in the range of serial numbers for the Model B200 applicability.

What Is FAA's Response to the Concern?

We concur. The last serial number for the Model B200 applicability is incorrectly stated as BB-14443. The correct serial number is BB-1443. We will change the final rule AD action to incorporate the correct serial number.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

How Does the Revision to 14 CFR Part 39 Affect This AD?

On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How Many Airplanes Does This AD Impact?

We estimate that this AD affects 3,223 airplanes in the U.S. registry.

What Is the Cost Impact of This AD on Owners/Operators of the Affected Airplanes?

We estimate the following costs to accomplish the inspection of the forward side of the aft pressure bulkhead:

Labor cost | Parts cost | Total cost per airplane | Total cost on U.S. operators
8 workhours × $60 per hour = $480 | Not applicable | $480 | $1,547,040

We estimate the following costs to accomplish any necessary repairs that will be required based on the results of the inspection. We have no way of determining the number of airplanes that may need such repair of the forward side of the aft pressure bulkhead:

Labor cost | Parts cost | Total cost per airplane
16 workhours × $60 per hour = $960 | $25 | $985

Compliance Time of This AD

What Will Be the Compliance Time of This AD?

The compliance time of this AD is within the next 6 calendar months after the effective date of this AD.

Why Is the Compliance Time Presented in Calendar Time Instead of Hours Time-in-Service (TIS)?

This unsafe condition is not a result of the number of times the airplane is operated. The chance of this situation occurring is the same for an airplane with 10 hours TIS as it would be for an airplane with 500 hours TIS. For this reason, FAA has determined that a compliance based on calendar time will be utilized in this AD in order to ensure that the unsafe condition is addressed on all airplanes in a reasonable time period.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-13-16 Raytheon Aircraft Company: Amendment 39-13218; Docket No. 2002-CE-45-AD.

(a) What airplanes are affected by this AD? This AD affects the following airplane models and serial numbers that are certificated in any category:

Model | Serial numbers
(1) 65-90, 65-A90, B90, C90, and C90A | LJ-1 through LJ-1287, LJ-1289 through LJ-1294, and LJ-1296 through LJ-1299.
(2) E90 | LW-1 through LW-347.
(3) F90 | LA-2 through LA-236.
(4) H90 (T-44A) | LL-1 through LL-61.
(5) 100 and A100 | B-2 through B-89, B-93, and B-100 through B-247.
(6) A100 (U-21F) | B1, B-90 through B-92, and B-94 through B-99.
(7) A100-1 (U-21J) | BB-3 through BB-5.
(8) A200 (C-12A) and (C-12C) | BC-1 through BC-61, BC-62 through BC-75, and BD-1 through BD-30.
(9) A200C (UC-12B) | BJ-1 through BJ-66
(10) A200CT (C-12D) | BP-1, BP-19, and BP-24 through BP-51.
(11) A200CT (C-12F) | BP-52 through BP-63.
(12) B200C (C-12F) | BP-64 through BP-71, BL-73 through BL-112, and BL-118 through BL-123.
(13) A200CT (FWC-12D) | BP-7 through BP-11.
(14) A200CT (RC-12D) | GR-1 through GR-12.
(15) A200CT (RC-12G) | FC-1 through FC-3.
(16) A200CT (RC-12H) | GR-14 through GR-19.
(17) A200CT (RC-12K) | FE-1 through FE-9.
(18) A200CT (RC-12P) | FE-25 through FE-31, FE-33, and FE-35.
(19) A200CT (RC-12Q) | FE-32, F-34, and FE-36.
(20) B100 | BE-1 through BE-137.
(21) B200C | BL-37 through BL-57, BL-61 through BL-72, and BL-124 through BL-138.
(22) 200C | BL-1 through BL-23, BL-26 through BL-36.
(23) B200C (C-12F) | BP-64 through BP-71, BL-73 through BL-112, and BL-118 through BL-123.
(24) B200C (C-12R) | BW-1 through BW-29.
(25) B200C (UC-12F) | BU 1 through BU10.
(26) B200C (UC-12M) | BV-1 through BV-10.
(27) B200CT and 200CT | BN-1 through BN-4.
(28) B200T and 200T | BT-1 through BT-34, and BB-1314.
(29) 200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-666 through BB-694, BB-696 through BB-733, BB-735 through BB-792, BB-794 through BB-797, BB-799 through BB-822, BB-825 through BB-828, BB-830 through BB-853, BB-872, BB-873, BB-892, BB-893, and BB-912.
(30) B200 | BB-734, BB-793, BB-829, BB-854 through BB-870, BB-874 through BB-891, BB-894, BB-896 though BB-911, BB-913 through BB-990, BB-992 through BB-1051, BB-1053 through BB-1092, BB-1094, BB-1099 through BB-1104, BB-1106 through BB-1116, BB-1118 through BB-1184, BB-1186 through BB-1263, BB-1265 through BB-1288, BB-1290 through BB-1300, BB-1302 through BB-1313, BB-1315 through BB-1384, BB-1389 through BB-1425, BB-1427 through BB-1438, and BB-1440 through BB-1443.

(b) Who must comply with this AD? Anyone who wishes to operate any of the airplanes identified in paragraph (a) of this AD must comply with this AD.

(c) What problem does this AD address? The actions specified by this AD are intended to detect and correct damage to the aft pressure bulkhead of the fuselage. Such damage could lead to fatigue failure of the bulkhead.

(d) What actions must I accomplish to address this problem? To address this problem, you must accomplish the following:

Actions | Compliance | Procedures
(1) Inspect the forward side of the aft pressure bulkhead for scoring damage | Within the next 6 calendar months after August 25, 2003 (the effective date of this AD), unless already accomplished | In accordance with the Accomplishment Instructions of Raytheon Aircraft Mandatory Service Bulletin No.: SB 53-3513, Rev. 1, dated: October 2002.
(2) If scoring damage is found, repair as specified in the Raytheon Aircraft Mandatory Service Bulletin No.: SB 53-3513, Rev. 1, dated: October 2002. As applicable, obtain a repair plan from Raytheon Aircraft Company through FAA at the address specified in paragraph (e) of this AD and incorporate this repair scheme | Prior to further flight after the inspection required in paragraph (d)(1) of this AD, unless already accomplished | In accordance with the Accomplishment Instructions of Raytheon Aircraft Mandatory Service Bulletin No.: SB 53-3513, Rev. 1, dated: October 2002. As applicable, repair in accordance with a repair scheme obtained from Raytheon Aircraft Company. Obtain this repair scheme through FAA at the address specified in paragraph (e) of this AD.

(e) Can I comply with this AD in any other way? To use an alternative method of compliance or adjust the compliance time, use the procedures in 14 CFR 39.19. Send these requests to the Manager, Wichita Aircraft Certification Office (ACO). For information on any already approved alternative methods of compliance, contact Mr. Steven E. Potter, Aerospace Engineer, Wichita Aircraft Certification Office, FAA, 1801 Airport Road, Wichita, Kansas 67209; telephone: (316) 946-4124; facsimile: (316) 946-4107.

(f) Are any service bulletins incorporated into this AD by reference? Actions required by this AD must be done in accordance with Raytheon Aircraft Mandatory Service Bulletin No.: SB 53-3513, Rev. 1, dated: October 2002. The Director of the Federal Register approved this incorporation by reference under 5 U.S.C. 552(a) and 1 CFR part 51. You may get copies from Raytheon Aircraft Company, 9709 E. Central, Wichita, Kansas 67201-0085; telephone: (800) 429-5372 or (316) 676-3140. You may view copies at the FAA, Central Region, Office of the Regional Counsel, 901 Locust, Room 506, Kansas City, Missouri, or at the Office of the Federal Register, 800 North Capitol Street, NW., suite 700, Washington, DC.

(g) When does this amendment become effective? This amendment becomes effective on August 25, 2003.

Issued in Kansas City, Missouri, on June 25, 2003.
Dorenda D. Baker,
Acting Manager, Small Airplane Directorate, Aircraft Certification Service.

[FR Doc. 03-16691 Filed 7-7-03; 8:45 am]

BILLING CODE 4910-13-P